DEPARTMENT OF COMMERCE

Foreign-Trade Zones Board

[B-06-2014]

Foreign-Trade Zone 197—Doña Ana County, New Mexico;

Application for Reorganization under Alternative Site Framework

An application has been submitted to the Foreign-Trade Zones (FTZ) Board by the Board of County Commissioners of Doña Ana County, New Mexico, grantee of FTZ 197, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on January 28, 2014.

FTZ 197 was approved by the FTZ Board on November 26, 1993 (Board Order 665, 58 FR 64546, 12/08/1993) and expanded on November 27, 2007, (Board Order 1536, 72 FR 69649, 12/10/2007).

The current zone includes the following sites: Site 1 (897 acres)—3 parcels as follows: Santa Teresa Airport Industrial Park (200 acres), 8016 Airport Road, Santa Teresa; Santa Teresa Business Center (489 acres), 2700 Airport Road, Santa Teresa; and, the Santa Teresa Logistics Park (208 acres), 4751 Avenida Creel, Santa Teresa; Site 2 (206 acres)—West Mesa Industrial Park, 350 Alliance Drive, Las Cruces; Site 3 (304 acres)—Santa Teresa Bi-National Park, 401 Avenida Ascension, Las Cruces.

The grantee's proposed service area under the ASF would be Doña Ana County, New Mexico, as described in the application. If approved, the grantee would be able to serve sites throughout the service area based on companies' needs for FTZ designation. The proposed service area is within and adjacent to the Santa Teresa U.S. Customs and Border Protection port of entry.

As part of the reorganization request, the grantee is requesting that two of the parcels which are currently part of Site 1 be renumbered to create Site 4 and Site 5. The applicant is requesting authority to reorganize its existing zone project to include both the existing and renumbered sites as “magnet” sites. The ASF allows for the possible exemption of one magnet site from the “sunset” time limits that generally apply to sites under the ASF, and the applicant proposes that Site 4 be so exempted. No subzones/usage-driven sites are being requested at this time.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is April 1, 2014. Rebuttal comments in response to material submitted during the foregoing period may be submitted during the subsequent 15-day period to April 16, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: January 28, 2014.
Andrew McGilvray,
Executive Secretary.

[FR Doc. 2014-02078 Filed 1-30-14; 8:45 am]

BILLING CODE 3510-DS-P